DEPARTMENT OF HOMELAND SECURITY

Coast Guard

[USCG-2006-26560]

National Preparedness for Response Exercise Program

AGENCY: Coast Guard, DHS.

ACTION: Notice; request for public comment.

SUMMARY: The Coast Guard, the Pipeline and Hazardous Materials Safety Administration, the Environmental Protection Agency and the Minerals Management Service, in concert with representatives from various State governments, industry, environmental interest groups, and the general public, developed the National Preparedness for Response Exercise Program (PREP) Guidelines to reflect the consensus agreement of the entire oil spill response community. This notice announces the PREP triennial exercise cycle for 2007 through 2009, requests comments from the public, and requests industry participants to volunteer for scheduled PREP Area exercises.

DATES: Comments and related material must reach the Docket Management Facility on or before February 27, 2007.

ADDRESSES: You may submit comments identified by Coast Guard docket number USCG-2006-26560 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, or need general information regarding the PREP or the triennial exercise schedule, contact Lieutenant Damon Sanders, Office of Contingency Exercises and Training (CG-3RPE), U.S. Coast Guard, telephone (202) 372-2151, or e-mail Damon.C.Sanders@uscg.mil. If you have questions on viewing or submitting material to the docket, call Ms. Renee V. Wright, Program Manager, Docket Operations, telephone 202-493-0402.

SUPPLEMENTARY INFORMATION:

Public Participation and Request for Comments

We encourage you to respond to this notice by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-26560), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this triennial exercise schedule as well as other elements of the PREP in view of them.

Viewing comments and documents: To view comments, as well as documents mentioned in this preamble as being available in the docket, go to http://dms.dot.gov at any time and conduct a simple search using the last five digits of the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

In 1994, the United States Coast Guard (USCG) and the Research and Special Programs Administration (RSPA) of the Department of Transportation, the U.S. Environmental Protection Agency (EPA), and the Minerals Management Service (MMS) of the Department of the Interior, coordinated the development of the PREP Guidelines to provide guidelines for compliance with the Oil Pollution Act of 1990 (OPA 90) pollution response exercise requirements (33 U.S.C. 1321(j)). The guiding principles for PREP distinguish between internal and external exercises. Internal exercises are conducted within the planholder's organization. External exercises extend beyond the planholder's organization to involve other members of the response community. External exercises are separated into two categories: Area exercises, and Government-initiated, unannounced exercises. External exercises are designed to evaluate the entire pollution response mechanism in a given geographic area to ensure adequate response preparedness.

A National Schedule Coordination Committee (NSCC) was established for scheduling Area exercises. The NSCC is comprised of personnel representing the four Federal regulating agencies—the USCG, EPA, MMS, and PHMSA's Office of Pipeline Safety (OPS). Since 1994, the NSCC has published a triennial schedule of area exercises. Area exercises involve the entire response community including Federal, State, local, tribal, and non-government organizations, and industry participants; therefore, these area exercises require more extensive planning than other oil spill response exercises. The PREP Guidelines describe all of these exercises in more detail.

Source for PREP Documents

The Preparedness for Response Exercise Program (PREP) Area exercise schedule and exercise design manuals are available on the Internet at http://www.uscg.mil/hq/nsfweb/nsfcc/prep/federalregister.html. To obtain a hard copy of the exercise design manual, contact Ms. Melanie Barber at the Pipeline and Hazardous Materials Safety Administration (PHMSA), Office of Pipeline Safety at 202-366-4560. Instructions for ordering the 2002 PREP Guidelines booklet are available on the Internet at http://www.uscg.mil/hq/nsfweb/nsfcc/prep/federalregister.html. The stock number of the manual is USCG-X0241. Please indicate the quantity when ordering. Quantities are limited to 10 per order.

PREP Schedule

Table 1 below lists the dates and Federal Register cites of past PREP exercise notices.

Table 1.—Past Prep Exercise Notices
Date published | Federal Register Cite | Notice
January 3, 2006 | 71 FR 124 | PREP triennial exercise schedule for 2006, 2007, and 2008.
September 21, 2004 | 69 FR 56445 | PREP triennial exercise schedule for 2005, 2006, and 2007.
February 5, 2004 | 69 FR 5562 | Revision to PREP triennial exercise schedule for 2004, 2005, and 2006.
October 16, 2003 | 68 FR 59627 | PREP triennial exercise schedule for 2004, 2005, and 2006.
October 30, 2002 | 67 FR 66189 | PREP triennial exercise schedule for 2003, 2004, and 2005.
January 22, 2002 | 67 FR 2944 | PREP triennial exercise schedule for 2002, 2003, and 2004.
February 9, 2001 | 66 FR 9744 | PREP triennial exercise schedule for 2001, 2002, and 2003.
March 7, 2000 | 65 FR 12049 | PREP triennial exercise schedule for 2000, 2001, and 2002.
June 15, 1999 | 64 FR 32090 | PREP triennial exercise schedule for 1999, 2000, and 2001.
January 8, 1998 | 63 FR 1141 | PREP triennial exercise schedule for 1998, 1999, and 2000.
March 26, 1997 | 62 FR 14494 | PREP triennial exercise schedule for 1997, 1998, and 1999.
January 26, 1996 | 61 FR 2568 | Correction to PREP triennial exercise schedule for 1996, 1997, and 1998.
November 13, 1995 | 60 FR 57050 | PREP triennial exercise schedule for 1996, 1997, and 1998.
October 26, 1994 | 59 FR 53858 | Revision to PREP triennial exercise schedule for 1995, 1996, and 1997.
March 25, 1994 | 59 FR 14254 | PREP triennial exercise schedule for 1995, 1996, and 1997.

This notice announces the next triennial schedule of area exercises. The PREP schedule for calendar years 2007, 2008, and 2009 for Government-led and Industry-led Area exercises is available on the Internet at http://www.uscg.mil/hq/nsfweb/nsfcc/prep/federalregister.html. If a company wants to volunteer for an Area exercise, a company representative may call either the Coast Guard or EPA on-scene coordinator where the exercise is scheduled.

If you have concerns or recommended improvements to the Government-led PREP exercises, please submit those using the procedures described under the ADDRESSES section of this notice.

Dated: December 22, 2006.
C.E. Bone,
Assistant Commandant for Prevention.

[FR Doc. E6-22442 Filed 12-28-06; 8:45 am]

BILLING CODE 4910-15-P